ENVIRONMENTAL PROTECTION AGENCY

[EPA-HQ-OPP-2015-0389; FRL-9930-60]

Pesticides; Risk Management Approach To Identifying Options for Protecting the Monarch Butterfly; Notice of Extension of Comment Period

AGENCY: Environmental Protection Agency (EPA).

ACTION: Notice; extension of comment period.

SUMMARY: EPA issued a notice in the Federal Register of June 24, 2015, concerning the document “Risk Management Approach to Identifying Options for Protecting the Monarch Butterfly.” This notice extends the comment period for 30 days, from July 24, 2015 to August 24, 2015. Crop Life America, Responsible Industry for a Sound Environment, and the California Crops Council requested an extension of the comment period to allow sufficient time to analyze the subject document and assemble relevant information.

DATES: Comments, identified by docket identification (ID) number EPA-HQ-OPP-2015-0389, must be received on or before August 24, 2015.

ADDRESSES: Follow the detailed instructions provided under ADDRESSES in the Federal Register document of June 24, 2015 (80 FR 36338) (FRL-9929-01).

FOR FURTHER INFORMATION CONTACT: Khue Nguyen, Pesticide Re-Evaluation Division (7508P), Office of Pesticide Programs, Environmental Protection Agency, 1200 Pennsylvania Ave. NW., Washington, DC 20460-0001; telephone number: (703) 347-0248; email address: nguyen.khue@epa.gov.

SUPPLEMENTARY INFORMATION: This notice extends the public comment period established in the Federal Register document of June 24, 2015. EPA is hereby extending the comment period, which was set to end on July 24, 2015, to August 24, 2015.

To submit comments, or access the docket, please follow the detailed instructions provided under ADDRESSES in the Federal Register document of June 24, 2015. If you have questions, consult the person listed under FOR FURTHER INFORMATION CONTACT.

Authority: 7 U.S.C. 136 et seq.

Dated: July 16, 2015.
Richard P. Keigwin, Jr.,
Director, Pesticide Re-Evaluation, Office of Pesticide Programs.

[FR Doc. 2015-17993 Filed 7-21-15; 8:45 am]

BILLING CODE 6560-50-P